DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Baldwin (FEMA Docket No.: B-1294) | City of Gulf Shores (12-04-4632P) | The Honorable Robert S. Craft, Mayor, City of Gulf Shores, P.O. Box 299, Gulf Shores, AL 36547 | Community Development Department, 1905 West 1st Street, Gulf Shores, AL 36547 | March 11, 2013 | 015005
Shelby (FEMA Docket No.: B-1288) | City of Chelsea (12-04-5684P) | The Honorable Earl Niven, Sr., Mayor, City of Chelsea, P.O. Box 111, Chelsea, AL 35043 | City Clerk's Office, 11611 Chelsea Road, Chelsea, AL 35043 | March 11, 2013 | 010432
Shelby (FEMA Docket No.: B-1288) | Unincorporated areas of Shelby County (12-04-5684P) | The Honorable Corley Ellis, Chairman, Shelby County Commission, P.O. Box 1177, Columbiana, AL 35051 | Shelby County Engineer's Office, 506 Highway 70, Columbiana, AL 35051 | March 11, 2013 | 010191
Arizona:
Yavapai (FEMA Docket No.: B-1286) | City of Prescott (12-09-1886P) | The Honorable Marlin Kuykendall, Mayor, City of Prescott, 201 South Cortez Street, Prescott, AZ 86303 | Public Works Department, 201 South Cortez Street, Prescott, AZ 86303 | March 11, 2013 | 040098
Yavapai (FEMA Docket No.: B-1286) | City of Prescott Valley (12-09-1886P) | The Honorable Harvey C. Skoog, Mayor, Town of Prescott Valley, 7501 East Civic Circle, Prescott Valley, AZ 86314 | Engineering Division, 7501 East Civic Circle, Prescott Valley, AZ 86314 | March 11, 2013 | 040121
Yavapai (FEMA Docket No.: B-1286) | Unincorporated areas of Yavapai County (12-09-1886P) | The Honorable Thomas Thurman, Chairman, Yavapai County Board of Supervisors, 1015 Fair Street, Prescott, AZ 86305 | Yavapai County Flood Control District, 500 South Marina Street, Prescott, AZ 86303 | March 11, 2013 | 040093
California:
Los Angeles (FEMA Docket No.: B-1285) | City of Los Angeles (12-09-2655P) | The Honorable Antonio R. Villaraigosa, Mayor, City of Los Angeles, 200 North Spring Street, Los Angeles, CA 90012 | Bureau of Engineering, 1149 South Broadway, Los Angeles, CA 90015 | February 25, 2013 | 060137
Mendocino (FEMA Docket No.: B-1286) | City of Ukiah (12-09-2827P) | The Honorable Mary Anne Landis, Mayor, City of Ukiah, 300 Seminary Avenue, Ukiah, CA 95482 | Planning and Community Development Department, 300 Seminary Avenue, Ukiah, CA 95482 | February 28, 2013 | 060186
San Bernardino (FEMA Docket No.: B-1286) | Town of Apple Valley (12-09-1907P) | The Honorable Barb Stanton, Mayor, Town of Apple Valley, 14955 Dale Evans Parkway, Apple Valley, CA 92307 | Engineering Department, 14955 Dale Evans Parkway, Apple Valley, CA 92307 | March 11, 2013 | 060752
San Diego (FEMA Docket No.: B-1286) | City of San Marcos (12-09-1029P) | The Honorable Jim Desmond, Mayor, City of San Marcos, 1 Civic Center Drive, San Marcos, CA 92069 | Public Works Department, 1 Civic Center Drive, San Marcos, CA 92069 | March 7, 2013 | 060296
San Luis Obispo (FEMA Docket No.: B-1288) | City of San Luis Obispo (12-09-1856P) | The Honorable Jan Howell Marx, Mayor, City of San Luis Obispo, 990 Palm Street, San Luis Obispo, CA 93401 | Engineering Department, 919 Palm Street, San Luis Obispo, CA 93401 | March 25, 2013 | 060310
San Mateo (FEMA Docket No.: B-1286) | City of San Mateo (12-09-2887P) | The Honorable Brandt Grotte, Mayor, City of San Mateo, 330 West 20th Avenue, San Mateo, CA 94403 | Community Development Department, 330 West 20th Avenue, San Mateo, CA 94403 | March 4, 2013 | 060328
Colorado:
Adams (FEMA Docket No.: B-1288) | City of Westminster (12-08-0832P) | The Honorable Nancy McNally, Mayor, City of Westminster, 4800 West 92nd Avenue, Westminster, CO 80031 | Engineering Division, 4800 West 92nd Avenue, Westminster, CO 80031 | March 15, 2013 | 080008
Arapahoe (FEMA Docket No.: B-1288) | City of Aurora (12-08-0590P) | The Honorable Steve Hogan, Mayor, City of Aurora, 15151 East Alameda Parkway, Aurora, CO 80012 | Engineering Department, 15151 East Alameda Parkway, Aurora, CO 80012 | March 22, 2013 | 080002
Boulder (FEMA Docket No.: B-1288) | City of Boulder (12-08-0776P) | The Honorable Matthew Appelbaum, Mayor, City of Boulder, P.O. Box 791, Boulder, CO 80306 | Planning and Development Services Department, 1739 Broadway, 3rd Floor, Boulder, CO 80302 | March 25, 2013 | 080024
Larimer (FEMA Docket No.: B-1286) | City of Fort Collins (12-08-0677P) | The Honorable Karen Weitkunat, Mayor, City of Fort Collins, P.O. Box 580, Fort Collins, CO 80521 | Stormwater Utilities Department, 700 Wood Street, Fort Collins, CO 80521 | February 28, 2013 | 080102
Larimer (FEMA Docket No.: B-1286) | Unincorporated areas of Larimer County (12-09-0677P) | The Honorable Lew Gaiter III, Chairman, Larimer County Board of Commissioners, P.O. Box 1190, Fort Collins, CO 80522 | Larimer County Engineering Department, 200 West Oak Street, Fort Collins, CO 80521 | February 28, 2013 | 080101
Weld (FEMA Docket No.: B-1294) | Town of Erie (11-08-1090P) | The Honorable Joe Wilson, Mayor, Town of Erie, P.O. Box 750, Erie, CO 80516 | Town Hall, 645 Holbrook Street, Erie, CO 80516 | March 25, 2013 | 080181
Weld (FEMA Docket No.: B-1294) | Unincorporated areas of Weld County (11-08-1090P) | The Honorable Sean Conway, Chairman, Weld County Commissioners, P.O. Box 758, Greeley, CO 80632 | Weld County Public Works Department, 1111 H Street, Greeley, CO 80632 | March 25, 2013 | 080266
Florida:
Brevard (FEMA Docket No.: B-1288) | City of Cocoa Beach (12-04-6118P) | The Honorable Leon “Skip” Beeler III, MD, Mayor, City of Cocoa Beach, P.O. Box 322430, Cocoa Beach, FL 32932 | Development Services Department, 2 South Orlando Avenue, 2nd Floor, Cocoa Beach, FL 32932 | March 25, 2013 | 125097
Broward (FEMA Docket No.: B-1286) | City of Hallandale Beach (12-04-5196P) | The Honorable Joy Cooper, Mayor, City of Hallandale Beach, 400 South Federal Highway, Hallandale Beach, FL 33009 | Development Services, 2600 Hollywood Boulevard, Hallandale Beach, FL 33009 | February 28, 2013 | 125110
Lee (FEMA Docket No.: B-1286) | Unincorporated areas of Lee County (12-04-2790P) | The Honorable John E. Manning, Chairman, Lee County Board of Commissioners, P.O. Box 398, Fort Myers, FL 33902 | Lee County Community Development Department, 1500 Monroe Street, 2nd Floor, Fort Myers, FL 33901 | February 28, 2013 | 125124
Miami-Dade (FEMA Docket No.: B-1286) | City of Sunny Isles Beach (12-04-6055P) | The Honorable Norman S. Edelcup, Mayor, City of Sunny Isles Beach, 18070 Collins Avenue, Sunny Isles Beach, FL 33160 | Building and Development Department, 18070 Collins Avenue, Sunny Isles Beach, FL 33610 | March 11, 2013 | 120688
Monroe (FEMA Docket No.: B-1294) | Unincorporated areas of Monroe County (12-04-7637P) | The Honorable David Rice, Mayor, Monroe County, 1100 Simonton Street, Key West, FL 33040 | Monroe County Building Department, 2798 Overseas Highway, Marathon, FL 33050 | March 25, 2013 | 125129
Orange (FEMA Docket No.: B-1286) | City of Orlando (12-04-5845P) | The Honorable Buddy Dyer, Mayor, City of Orlando, P.O. Box 4990, Orlando, FL 32808 | Permitting Services, 400 South Orange Avenue, Orlando, FL 32801 | March 8, 2013 | 120186
Hawaii:
Hawaii (FEMA Docket No.: B-1286) | Unincorporated areas of Hawaii County (12-09-1607P) | The Honorable William P. Kenoi, Mayor, Hawaii County, 25 Aupuni Street, Suite 2603, Hilo, HI 96720 | Hawaii County Office Building, Department of Public Works, 101 Pauahi Street, Suite 7, Hilo, HI 96720 | March 4, 2013 | 155166
New York:
Westchester (FEMA Docket No.: B-1274) | Village of Mamaroneck (10-02-1072P) | The Honorable Norman S. Rosenblum, Mayor, Village of Mamaroneck, 123 Mamaroneck Avenue, Mamaroneck, NY 10543 | Building Department, 169 Mount Pleasant Avenue, 3rd Floor, Mamaroneck, NY 10543 | December 19, 2012 | 360916
North Carolina:
Mecklenburg (FEMA Docket No.: B-1288) | Town of Huntersville (12-04-5382P) | The Honorable Jill Swain, Mayor, Town of Huntersville, P.O. Box 664, Huntersville, NC 28078 | Planning Department, 101 Huntersville-Concord Road, Huntersville, NC 28070 | March 11, 2013 | 370478
Mecklenburg (FEMA Docket No.: B-1294) | Town of Cornelius (12-04-5511P) | The Honorable Jeff Tarte, Mayor, Town of Cornelius, 21445 Catawba Avenue, Cornelius, NC 28031 | Public Works Department, 21445 Catawba Avenue, Cornelius, NC 28031 | March 15, 2013 | 370498
Mecklenburg (FEMA Docket No.: B-1294) | Unincorporated areas of Mecklenburg County (12-04-5511P) | Mr. Harry L. Jones, Sr., Mecklenburg County Manager, 600 East 4th Street, Charlotte, NC 28202 | Charlotte-Mecklenburg Stormwater Services Division, 700 North Tryon Street, Charlotte, NC 28202 | March 15, 2013 | 370158
South Carolina:
Charleston (FEMA Docket No.: B-1288) | City of Charleston, (12-04-8055P) | The Honorable Joseph P. Riley, Jr., Mayor, City of Charleston, P.O. Box 652, Charleston, SC 29402 | Engineering Department, 75 Calhoun Street, Division 301, Charleston, SC 29401 | March 15, 2013 | 455412
Charleston (FEMA Docket No.: B-1288) | Unincorporated areas of Charleston County (12-04-8055P) | The Honorable Teddie E. Pryor, Sr., Chairman, Charleston County Council, 4045 Bridge View Drive, North Charleston, SC 29405 | Charleston County Building Services Department, 4045 Bridge View Drive, North Charleston, SC 29405 | March 15, 2013 | 455413

(Catalog of Federal Domestic Assistance No. 97.022, “Flood Insurance.”)

Roy E. Wright,
Deputy Associate Administrator for Mitigation, Department of Homeland Security, Federal Emergency Management Agency.

[FR Doc. 2013-11595 Filed 5-15-13; 8:45 am]

BILLING CODE 9110-12-P